POSTAL REGULATORY COMMISSION

39 CFR Part 3055

[Docket No. RM2024-9; Order No. 7247]

RIN 3211-AA39

Service Performance Measurement Systems for Market Dominant Products

AGENCY: Postal Regulatory Commission.

ACTION: Advance notice of proposed rulemaking.

SUMMARY: The Advance Notice of Proposed Rulemaking seeks comment on the Commission's review of the accuracy, reliability, and representativeness of the Postal Service's Internal Service Performance Measurement (SPM) System. SPM produces service performance results that are an amalgamation of granular and siloed evaluations of performance for the individual segments of mail collection (First Mile), mail processing (Processing Duration), and mail delivery (Last Mile). Given recent changes in operations and mail mix, the Commission has concerns about the continued validity of the design and implementation of each of these three systems, as well as how the systems function collectively as a whole. This document informs the public of the filing, invites public comment, and takes other administrative steps.

DATES: Technical Conference: July 24, 2024, at 11 a.m., Eastern Time (ET), Virtual. Comments are due: September 11, 2024. Reply comments are due: October 9, 2024.

ADDRESSES: Submit comments electronically via the Commission's Filing Online system at https://www.prc.gov. Those who cannot submit comments electronically should contact the person identified in the FOR FURTHER INFORMATION CONTACT section by telephone for advice on filing alternatives. The Rule Summary can be found on the Commission's Rule Summary Page at https://www.prc.gov/rule-summary-page.

FOR FURTHER INFORMATION CONTACT: David A. Trissell, General Counsel, at 202-789-6820.

SUPPLEMENTARY INFORMATION: Pursuant to 39 U.S.C. 503, 3652 and 3691, the Commission finds that it is appropriate to initiate this proceeding to review the accuracy, reliability, and representativeness of the Postal Service's Internal Service Performance Measurement (SPM) System. The Commission seeks comments regarding this review.

SPM produces composite service performance results that are generated using several different data sources and data processing methods. The service performance results produced by SPM are an amalgamation of granular and siloed evaluations of performance for the individual segments of mail collection (First Mile), mail processing (Processing Duration), and mail delivery (Last Mile). Given recent changes in operations and mail mix, the Commission has concerns about the continued validity of the design and implementation of each of these three systems, as well as how the systems function collectively as a whole.

Commission Information Request No. 1 is being issued today in this docket and the Postal Service shall fully respond by August 14, 2024.

A technical conference will be held live via Microsoft Teams on July 24, 2024, at 11 a.m. ET. This technical conference is an informal, off-the-record opportunity to interactively discuss and clarify technical issues related to the nature and extent of the information sought in Commission Information Request No. 1, as well as to identify and discuss information relevant to evaluating the SPM System. Details on how to participate appear in Order No. 7247.

Interested persons are invited to provide written comments to facilitate the Commission's review of the accuracy, reliability, and representativeness of SPM. Below, the Commission identifies specific topics on which it would particularly appreciate comment. However, commenters are not limited to addressing these identified topics—the Commission will consider all comments that fall within the scope of this proceeding.

1. Is SPM in its current state producing accurate, reliable, and/or representative measurements of the Postal Service's service performance? If not, what specific aspect of SPM's design and/or implementation is causing service performance measurement to be inaccurate, unreliable, and/or unrepresentative?

2. Are there modifications that could be made to SPM in its current state that would result in it being more accurate, reliable, and/or representative?

3. Are there alternative measurement systems (either external or internal) that would be more accurate, reliable, and/or representative than SPM?

By the Commission.
Erica A. Barker,
Secretary.

[FR Doc. 2024-14978 Filed 7-9-24; 8:45 am]

BILLING CODE 7710-FW-P